DEPARTMENT OF TRANSPORTATION

Federal Motor Carrier Safety Administration

[Docket No. FMCSA-2007-0056]

Hours of Service of Drivers: Dart Transit Company Application for Exemption

AGENCY: Federal Motor Carrier Safety Administration (FMCSA), DOT.

ACTION: Notice; extension of public comment period.

SUMMARY: The FMCSA announces an extension of the comment period until January 25, 2008, for Dart Transit Company's (Dart) application for an exemption from certain commercial motor vehicle driver hours-of-service provisions of the Federal Motor Carrier Safety Regulations. Dart requested an exemption for 200 of its owner-operators from the prohibition against driving after the 14th hour of coming on-duty, following 10 consecutive hours off-duty, and the requirement that drivers using two sleeper-berth (S/B) periods to accumulate the equivalent of 10 consecutive hours off-duty spend at least 8 but less than 10 consecutive hours in the S/B during one of those two periods. The Advocates for Highway and Auto Safety (Advocates) has requested an extension of time for the public comment period because the issues involved require additional time to evaluate. The FMCSA is granting the Advocates' request.

DATES: Comments must be received on or before January 25, 2008.

ADDRESSES: You may submit comments identified by Federal Docket Management System Number FMCSA-2007-0056 by any of the following methods:

• Web Site: http://www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov at any time or to the ground floor, Room W12-140, DOT Building, 1200 New Jersey Avenue, SE., Washington, DC, between 9 a.m. and 5 p.m. e.t., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.regulations.gov.

Public participation: The http://www.regulations.gov Web site is generally available 24 hours each day, 365 days each year. You can get electronic submission and retrieval help and guidelines under the “help” section of the http://www.regulations.gov Web site and also at the DOT's http://docketsinfo.dot.gov Web site. If you want us to notify you that we received your comments, please include a self-addressed, stamped envelope or Postcard or print the acknowledgement page that appears after submitting comments on-line.

FOR FURTHER INFORMATION CONTACT: Mr. Richard Clemente, FMCSA Driver and Carrier Operations Division; Office of Bus and Truck Standards and Operations; Telephone: 202-366-4325. E-mail: MCPSD@dot.gov.

SUPPLEMENTARY INFORMATION: On November 26, 2007, FMCSA published in the Federal Register (72 FR 66021) a notice of application for exemption and request for comments regarding Dart Transit Company (DART). That notice announced a closing date of December 26, 2007, for public comments to the docket. The Advocates for Highway and Auto Safety (Advocates) has requested an extension of time for the public comment period because the issues involved require additional time to evaluate. The FMCSA agrees that the complexity of the issues involved warrant further opportunity for public comment, and is extending the close of the comment period. All comments received before the close of business on January 25, 2008, will be considered and will be available for examination in the docket listed under the ADDRESSES section of this notice. Comments received after the comment closing date will be filed in the public docket and will be considered to the extent practicable. In addition to late comments, the FMCSA will also continue to file, in the public docket, relevant information that becomes available after the comment closing date. Interested persons should continue to examine the public docket for new material.

Issued on: December 26, 2007.
Larry W. Minor,
Associate Administrator for Policy and Program Development.

[FR Doc. E7-25468 Filed 12-31-07; 8:45 am]

BILLING CODE 4910-EX-P